DEPARTMENT OF ENERGY

Federal Energy Regulatory Commission

[Docket No. RP01-192-000]

Columbia Gas Transmission Corporation; Notice of Proposed Changes in FERC Gas Tariff

December 21, 2000.

Take notice that on December 15, 2000, Columbia Gas Transmission Corporation (Columbia) tendered for filing as part of its FERC Gas Tariff, Second Revised Volume No. 1, the following revised tariff sheets, bearing a proposed effective date of January 1, 2001:

Forty-seventh Revised Sheet No. 25

Forty-seventh Revised Sheet No. 26

Forty-seventh Revised Sheet No. 27

Twenty-first Revised Sheet No. 30A

Columbia states that this filing is being submitted pursuant to Stipulation I, Article I, Section E, True-up Mechanism, of the Settlement (Settlement) in Docket No. RP95-408 et al., approved by the Commission on April 17, 1997 (79 FERC ¶ 61,044 (1997)). Under the approved section of the Settlement, Columbia is required to true-up its collections pursuant to the Settlement Component for 12-month periods commencing November 1, 1996 and ending October 31, 2004. The fourth 12-month Period (Period IV) ended October 31, 2000. Columbia is making this true-up filing in compliance with the Settlement to return a net over-recovery of $2,130,235 for Period IV, which includes interest and the true-up of the Period III Settlement Component adjustment, through an adjustment to the Settlement Component of the base rates for the period January 1, 2001 through October 31, 2001.

Columbia states that copies of its filing have been mailed to all firm customers, interruptible customers, and affected state commissions.

Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

Linwood A. Watson, Jr.,
Acting Secretary.

[FR Doc. 00-33098 Filed 12-27-00; 8:45 am]

BILLING CODE 6717-01-M